DEPARTMENT OF HOUSING AND URBAN DEVELOPMENT

[Docket No. FR-7056-N-27]

60-Day Notice of Proposed Information Collection: Comment Request; New Construction Subterranean Termite Protection for New Homes; OMB Control No.: 2502-0525

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: October 31, 2022.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, REE, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

SUPPLEMENTARY INFORMATION: The Department is submitting the proposed information collection to OMB for review, as required by the Paperwork Reduction Act of 1995 (44 U.S.C. chapter 35, as amended).

A. Overview of Information Collection

Title of Information Collection: New Construction Subterranean Termite Protection for New Homes.

OMB Approval Number: 2502-0525.

Form Number: Form HUD-NPMA-99-A and Form HUD-NPMA-99-B.

Type of Request: Extension of a currently approved collection.

Description of the Need for the Information and Proposed Use: HUD regulations at 24 CFR 200.926d(b)(3) require that the sites for HUD insured structures must be free of termite hazards. The HUD-NPMA-99-A requires the builder to certify that all required treatment for termites was performed by an authorized pest control company with the builder's guarantee of the treated area against infestation for one year. The form HUD-NPMA-99-B requires a licensed pest control company to provide to the builder a record of specific treatment information for the prevention of termites. When applicable, the Form HUD-NPMA-99-B must accompany the Form HUD-NPMA-99-A. If the requested data are not collected, new home purchasers and HUD are subject to the risk of insuring a mortgage loan for a home that is infested by termites.

Agency Form Numbers: Form HUD-NPMA-99-A and Form HUD-NPMA-99-B.

Respondents: Business.

Estimated Number of Respondents: 93,630.

Estimated Number of Responses: 187,260.

Frequency of Response: On Occasion.

Average Hours per Response: 0.083.

Total Estimated Burdens (Hours): 31,178.8.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. chapter 35.

Nathan Shultz,
Acting Chief of Staff, Office of Assistant Secretary for Housing—Federal Housing Commissioner.

[FR Doc. 2022-18830 Filed 8-30-22; 8:45 am]

BILLING CODE 4210-67-P